DEPARTMENT OF ENERGY

Federal Energy Regulatory Commission

[Project No. 2174-012-California]

Southern California Edison; Notice of Availability of Final Environmental Assessment

April 27, 2006.

In accordance with the National Environmental Policy Act of 1969, as amended, and the Federal Energy Regulatory Commission's (Commission or FERC) regulations (18 CFR part 380), Commission staff has reviewed the application for license for the Portal Hydroelectric Project (FERC No. 2174-012) and has prepared a final environmental assessment (EA). The project is located on Camp 61 Creek and Rancheria Creek in Fresno County, California.

The final EA contains the staff's analysis of the potential environmental effects of the project and concludes that licensing the project, with appropriate environmental protective measures, would not constitute a major federal action that would significantly affect the quality of the human environment.

Before the Commission makes a licensing decision, it will take into account all concerns relevant to the public interest. The final EA will be part of the record from which the Commission will make its decision. Copies of the final EA are available for review in Public Reference Room 2-A of the Commission's offices at 888 First Street, NE., Washington, DC. The final EA also may be viewed on the Commission's Internet Web site (http://www.ferc.gov) using the “eLibrary” link. Additional information about the project is available from the Commission's Office of External Affairs, at (202) 502-6088, or on the Commission's Web site using the eLibrary link.

Magalie R. Salas,
Secretary.

[FR Doc. E6-6826 Filed 5-4-06; 8:45 am]

BILLING CODE 6717-01-P